DEPARTMENT OF AGRICULTURE

Forest Service

Eastern Idaho Resource Advisory Committee Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Thursday, March 29, 2005 in Idaho Falls for a business meeting. The meeting is open to the public.

DATES: The business meeting will be held on March 29, 2005 from 10 a.m. to 2 p.m.

ADDRESSES: The meeting location is the Caribou-Targhee National Forest Headquarters Office, 1405 Hollipark Drive, Idaho Falls, Idaho 83402.

FOR FURTHER INFORMATION CONTACT: Jerry Reese, Caribou-Targhee National Forest Supervisor and Designated Federal Officer, at (208) 524-7500.

SUPPLEMENTARY INFORMATION: The business meeting on March 29, 2005, begins at 10 a.m., at the Caribou-Targhee National Forest Headquarters Office, 1405 Hollipark Drive, Idaho Falls, Idaho. Agenda topics will include listening to presentations from those projects who have been invited back for the second round of project proposals for the 2005 fiscal year and making a decision on projects to fund.

Dated: February 11, 2005.
Jerry B. Reese,
Caribou-Targhee Forest Supervisor.

[FR Doc. 05-3135 Filed 2-17-05; 8:45 am]

BILLING CODE 3410-11-M